DEPARTMENT OF ENERGY

Notice of Extension of Public Comment Period for the Revised Draft Hanford Site Solid (Radioactive and Hazardous) Waste Program Environmental Impact Statement, Richland, WA

AGENCY: Department of Energy.

ACTION: Notice.

SUMMARY: In response to requests for extension of the public comment period for the Revised Draft Hanford Site Solid (Radioactive and Hazardous) Waste Program Environmental Impact Statement, Richland, Washington, the U.S. Department of Energy has extended the public comment period by 15 days. The comment period began April 11, 2003, and will now run until June 11, 2003 instead of May 27, 2003.

The Revised Draft EIS evaluates the potential environmental impacts associated with ongoing activities of the Hanford Site Solid Waste Program, disposal of immobilized low-activity wastes from Hanford tank waste processing, and reasonably foreseeable treatment, storage and disposal facilities and activities.

FOR FURTHER INFORMATION CONTACT: To request information about the revised draft EIS or to be placed on the EIS distribution list, contact: Mr. Michael S. Collins, HSW EIS Document Manager, Richland Operations Office, U.S. Department of Energy, A6-38, Post Office Box 550, Richland, Washington, 99352-0550. Telephone and voice mail: (800) 426-4914. Fax: (509) 372-1926. Electronic mail: hsweis@rl.gov.

For general information about the DOE NEPA process, contact: Ms. Carol M. Borgstrom, Director, Office of NEPA Policy and Compliance (EH-42), U.S. Department of Energy, 1000 Independence Avenue, SW., Washington, DC 20585-0119. Fax: (202) 586-7031. Telephone: (202) 586-4600. Voice mail: (800) 472-2756.

Issued in Richland, Washington, on this 19th day of May 2003.
Keith A. Klein,
Manager, Richland Operations Office.

[FR Doc. 03-13166 Filed 5-23-03; 8:45 am]

BILLING CODE 6450-01-P